ENVIRONMENTAL PROTECTION AGENCY

[EPA-HQ-OPP-2013-0266; FRL-9941-01-OCSPP]

Atrazine; Proposed Revisions to the Atrazine Interim Registration Review Decision Memorandum; Notice of Availability and Request for Comment

AGENCY: Environmental Protection Agency (EPA).

ACTION: Notice.

SUMMARY: EPA is announcing the availability of EPA's “Proposed Revisions to the Atrazine Interim Registration Review Decision, Case Number 0062” memorandum and is soliciting public comment on the proposed revisions to the atrazine interim registration review decision (ID). The Agency is not soliciting comment on any other aspects of the atrazine ID other than those specifically identified in the proposed revisions to the atrazine ID memorandum. The Agency is issuing this memorandum as a proposal for revisions to the atrazine interim registration review decision to provide clarification to specific sections of the interim registration review decision that address atrazine exposure in aquatic plant communities; and to propose additional mitigation options to reduce potential exposure and risk to aquatic plant communities from atrazine via runoff from agricultural uses in field corn, sweet corn, sorghum and sugarcane.

DATES: Comments must be received on or before September 6, 2022.

ADDRESSES: Submit your comments, identified by docket identification (ID) number EPA-HQ-OPP-2013-0266, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For pesticide specific information, contact: Alex Hazlehurst, Chemical Review Manager, Pesticide Re-Evaluation Division (7508P), Office of Pesticide Programs, Environmental Protection Agency, 1200 Pennsylvania Ave. NW, Washington, DC 20460-0001; telephone number: (202) 566-2249; email address: hazlehurst.alexander@epa.gov.

For general information on the registration review program, contact: Melanie Biscoe, Pesticide Re-Evaluation Division (7508P), Office of Pesticide Programs, Environmental Protection Agency, 1200 Pennsylvania Ave. NW, Washington, DC 20460-0001; email address: biscoe.melanie@epa.gov.

SUPPLEMENTARY INFORMATION:

I. General Information

A. Does this action apply to me?

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. Background

Registration review is EPA's periodic review of pesticide registrations to ensure that each pesticide continues to satisfy the statutory standard for registration, that is, the pesticide can perform its intended function without unreasonable adverse effects on human health or the environment. Through this program, EPA is ensuring that each pesticide's registration is based on current scientific and other knowledge, including its effects on human health and the environment. EPA may pursue mitigation at any time during the registration review process if it finds that a pesticide poses unreasonable adverse effects to human health or the environment.

On October 30, 2020, Petitioners challenged the EPA's issuance of the atrazine ID by filing a Petition for Review in the Ninth Circuit Court of Appeals, Rural Coalition, et al. v. EPA, et al., (No. 20-73220) (9th Cir.). The Petition alleges that EPA violated its duties under the Federal Insecticide, Fungicide, and Rodenticide Act (FIFRA), 7 U.S.C. 136 et seq., by approving the atrazine ID based on a lack of substantial supporting evidence. In response to the Petition, EPA sought a voluntary partial remand that was granted by the court on December 14, 2021. Specifically, the voluntary partial remand was focused on re-evaluating the determination in the ID that the concentration of 15 micrograms per liter (μg/L) triggers required monitoring and/or mitigation to protect aquatic plant communities. The requirements for registrants to revise atrazine labels to mitigate risk from the use of products containing atrazine were accepted on all atrazine product registrations and updated labels were stamped by the Agency on November 12, 2021. The Agency did not seek a remand on any of the other determinations identified in the ID. During the partial remand EPA reevaluated the policy decision to use15 μg/L as the level of regulation for aquatic plant communities. The reevaluation concluded that this portion of the previous decision was not adequately supported by science. Based on this reevaluation, EPA determined that this level regulation was not appropriate and is proposing, for public comment, additional mitigation to protect aquatic plant communities.

III. Authority

EPA is conducting its registration review of atrazine pursuant to FIFRA section 3(g) and the procedural regulations for registration review at 40 CFR part 155, subpart C. FIFRA section 3(g) provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

IV. What action is the Agency taking?

Pursuant to 40 CFR 155.58, this notice announces the availability of EPA's proposed revisions to the atrazine interim registration review decision memorandum for the pesticide atrazine and opens a 60-day public comment period on the proposed revisions to the atrazine interim registration review decision. The Agency is issuing this memorandum as a proposal for revisions to the atrazine interim registration review decision to: (1) provide clarification to specific sections of the interim registration review decision that address atrazine exposure in aquatic plant communities; and (2) propose additional mitigation options to reduce potential exposure and risk to aquatic plant communities from atrazine via runoff from agricultural uses in field corn, sweet corn, sorghum and sugarcane.

Table—Registration Review for Proposed Revisions to the Atrazine Interim Decision
Registration review case name and No. | Pesticide docket ID No. | Chemical review manager, telephone No., email address
Atrazine, Case Number 0062 | EPA-HQ-OPP-2013-0266 | Alex Hazlehurst, (202) 566-2249, Hazlehurst.alexander@epa.gov.

The registration review docket for a pesticide includes earlier documents related to the registration review of the case. For example, the review opened with a Summary Document, containing a Preliminary Work Plan, for public comment. A Final Work Plan was placed in the docket following public comment on the initial docket. The documents in the dockets describe EPA's rationales for conducting additional risk assessments for the registration review of the pesticide included in the table in Unit II.A., as well as the Agency's subsequent findings and consideration of possible risk mitigation measures. The proposed revisions to the atrazine interim registration review decision are supported by the rationales included in those documents. Following public comment, the Agency will issue the “Revisions to the Atrazine Interim Registration Review Decision, Case 0062” memorandum for products containing atrazine.

The regulation at 40 CFR 155.58(a) provides for a minimum 60-day public comment period on all proposed interim and/or final registration review decisions. This comment period is limited to the proposed revisions to the interim registration review decision. The Agency is not soliciting comment on any other aspects of the atrazine ID other than those specifically identified in the proposed revisions to the atrazine ID memorandum All comments should be submitted using the methods in ADDRESSES, and must be received by EPA on or before the closing date. These comments will become part of the docket for atrazine. Comments received after the close of the comment period will be marked “late.” EPA is not required to consider these late comments.

The Agency will carefully consider all comments related to the proposed revisions to the atrazine ID received by the closing date and will provide a “Response to Comments Memorandum” in the docket. The revisions to the atrazine interim registration review decision memorandum will explain the effect that any comments had on the revisions to the atrazine interim registration review decision and provide the Agency's response to significant comments.

Background on the registration review program is provided at: https://www.epa.gov/pesticide-reevaluation. Links to earlier documents related to the registration review of this pesticide are provided at: https://www.regulations.gov/docket/EPA-HQ-OPP-2013-0266.

Authority: 7 U.S.C. 136 et seq.

Dated: June 23, 2022.
Mary Reaves,
Director, Pesticide Re-Evaluation Division, Office of Pesticide Programs.

[FR Doc. 2022-14255 Filed 7-1-22; 8:45 am]

BILLING CODE 6560-50-P